DEPARTMENT OF LABOR

Employment and Training Administration

[TA-W-55,935]

Dhs Veneer, Subsidiary of Faces by Bacon, Inc., Thomasville, NC; Notice of Revised Determination on Reconsideration

By application of January 11, 2005 a petitioner requested administrative reconsideration of the Department's negative determination regarding eligibility for workers and former workers of the subject firm to apply for Trade Adjustment Assistance (TAA) and Alternative Trade Adjustment Assistance (ATAA). The denial notice was signed on December 15, 2004 and published in the Federal Register on January 24, 2005 (70 FR 3390).

The TAA petition, filed on behalf of workers at DHS Veneer, Subsidiary of Faces by Bacon, Inc., Thomasville, North Carolina engaged in production of veneer faces was denied because the “contributed importantly” group eligibility requirement of Section 222 of the Trade Act of 1974 was not met.

In the request for reconsideration, the petitioner provided additional list of the subject firm's customers and requested to investigate a secondary impact on the subject firm as an upstream supplier in the furniture industry. A review of the new facts determined that the workers of the subject firm may qualify eligible for TAA on the basis of a secondary upstream supplier impact.

Having conducted an investigation of subject firm workers on the basis of secondary impact, it was revealed that DHS Veneer, Subsidiary of Faces by Bacon, Inc., Thomasville, North Carolina supplied veneer faces that were used in the production of furniture, and a loss of business with domestic manufacturers (whose workers were certified eligible to apply for adjustment assistance) contributed importantly to the workers separation or threat of separation.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that workers of DHS Veneer, Subsidiary of Faces by Bacon, Inc., Thomasville, North Carolina qualify as adversely affected secondary workers under Section 222 of the Trade Act of 1974, as amended. In accordance with the provisions of the Act, I make the following certification:

All workers of DHS Veneer, Subsidiary of Faces by Bacon, Inc., Thomasville, North Carolina who became totally or partially separated from employment on or after October 27, 2003 through two years from the date of this certification, are eligible to apply for adjustment assistance under Section 223 of the Trade Act of 1974, and are eligible to apply for alternative trade adjustment assistance under Section 246 of the Trade Act of 1974.

Signed at Washington, DC, this 17th day ofry, 2005.
Elliott S. Kushner,
Certifying Officer, Division of Trade Adjustment Assistance.

[FR Doc. E5-992 Filed 3-8-05; 8:45 am]

BILLING CODE 4510-30-P